FEDERAL ELECTION COMMISSION

Sunshine Act Meeting

AGENCY: Federal Election Commission.

DATE and TIME: Tuesday, December 6, 2016 at 10:00 a.m.

PLACE: 999 E Street NW., Washington, DC.

STATUS: This meeting will be closed to the public.

Federal Register notice of previous announcement—81 FR 86714.

Change in the Meeting: This meeting was continued on December 8, 2016.

* * * * *

Person to Contact for Information: Judith Ingram, Press Officer; Telephone: (202) 694-1220.

Shelley E. Garr,
Deputy Secretary.

[FR Doc. 2016-29944 Filed 12-9-16; 11:15 am]

BILLING CODE 6715-01-P